ENVIRONMENTAL PROTECTION AGENCY

[FRL-8481-6]

Science Advisory Board (SAB) Staff Office; Clean Air Scientific Advisory Committee (CASAC) Carbon Monoxide Review Panel; Request for Nominations

AGENCY: Environmental Protection Agency (EPA).

ACTION: Notice.

SUMMARY: The U.S. Environmental Protection Agency (EPA or Agency) Science Advisory Board (SAB) Staff Office is announcing the formation of the Clean Air Scientific Advisory Committee (CASAC) Carbon Monoxide Review Panel (or Panel). The Panel will provide advice to the EPA Administrator regarding the primary national ambient air quality standards (NAAQS) for carbon monoxide (CO). The SAB is hereby soliciting nominations of technical experts for Panel membership.

DATES: New nominations should be submitted by November 2, 2007.

FOR FURTHER INFORMATION CONTACT: Any member of the public wishing further information regarding this Request for Nominations may contact Ms. Kyndall Barry, Designated Federal Officer (DFO), EPA Science Advisory Board (1400F), U.S. Environmental Protection Agency, 1200 Pennsylvania Avenue, NW., Washington, DC 20460; via telephone/voice mail: (202) 343-9868; fax: (202) 233-0643; or e-mail at: barry.kyndall@epa.gov. General information concerning the CASAC or the EPA Science Advisory Board can be found on the EPA Web site at: http://www.epa.gov/sab.

SUPPLEMENTARY INFORMATION: Background: The Clean Air Scientific Advisory Committee (CASAC) was established under section 109(d)(2) of the Clean Air Act (CAA or Act) (42 U.S.C. 7409) as an independent scientific advisory committee. The CASAC provides advice, information and recommendations on the scientific and technical aspects of air quality criteria and national ambient air quality standards (NAAQS) under sections 108 and 109 of the Act. The CASAC is a Federal advisory committee chartered under the Federal Advisory Committee Act (FACA), as amended, 5 U.S.C., App.

Section 109(d)(1) of the Clean Air Act (CAA) requires that EPA carry out a periodic review and revision, as appropriate, of the air quality criteria and the NAAQS for the six “criteria” air pollutants, including CO. The current primary NAAQS for CO was first promulgated in 1971 and retained in 1985 and 1994. EPA is currently preparing to update and revise, where appropriate, the air quality criteria for CO. Information on the Agency's plans to prepare an Integrated Science Assessment (ISA) as part of the review of the NAAQS for CO is contained in a recent Federal Register notice published on September 13, 2007 (72 FR 52369-52371).

This Federal Register notice solicitation is seeking nominations for additional, subject-matter experts to augment the chartered CASAC. The Panel will review EPA's scientific, technical, and policy assessments that form the basis for the Agency's review of the NAAQS for carbon monoxide. The Panel will comply with the provisions of FACA and all appropriate EPA and SAB Staff Office procedural policies.

Expertise Sought: In response to the Agency's request, the SAB Staff Office is soliciting nominees who are nationally-recognized experts regarding carbon monoxide in one or more of the following disciplines:

(1) Atmospheric Science. Expertise in physical/chemical properties of carbon monoxide and atmospheric processes involved in the formation, transport on urban to global scales, transformation and fate of this pollutant in the atmosphere, and movement of the pollutant between media through deposition and other mechanisms. Also, expertise in the evaluation of natural and anthropogenic sources and emissions of carbon monoxide, pertinent monitoring or measurement methods for this pollutant, and spatial and temporal trends in the atmospheric concentrations.

(2) Exposure Modeling. Expertise in measuring human population exposure to carbon monoxide and/or in modeling human exposure from ambient and indoor sources.

(3) Risk Assessment Modeling. Expertise in human health risk analysis modeling for carbon monoxide related to cardiovascular and other non-cancer health effects.

(4) Dosimetry. Expertise in evaluation of the dosimetry of animal and human subjects, including identification of factors determining differential patterns of inhalation and/or deposition/uptake in respiratory tract regions that may contribute to differential susceptibility of human population subgroups and animal-to-human dosimetry extrapolations.

(5) Toxicology. Expertise in evaluation of experimental laboratory animal studies and in vitro studies of the effects of carbon monoxide on cells, tissues and organ systems.

(6) Controlled Human Exposure. Expertise in evaluation of controlled human exposure studies of the effects of carbon monoxide on healthy individuals as well as those with pre-existing cardiopulmonary disease.

(7) Epidemiology. Expertise in epidemiologic evaluation of the effects of exposures to ambient carbon monoxide and/or other major air pollutants (e.g., particulate matter, ozone) on human population groups, including mortality and morbidity effects.

(8) Biostatistics. Biostatistics related to exposures to ambient carbon monoxide and/or other major air pollutants (e.g., particulate matter, ozone) on human population groups, including mortality and morbidity effects and/or health risk analysis.

Process and Deadline for Submitting Nominations: Any interested person or organization may nominate qualified individuals for consideration for membership on the CO Review Panel in the areas of expertise described above. Nominations should be submitted in electronic format through the SAB Web site at the following URL: http://www.epa.gov/sab directly via the nomination form, the Form for Nomination to Panel or Committee Being Formed. Please follow the instructions for submitting nominations carefully. To be considered, nominations should include all of the information required on the associated forms. Anyone unable to submit nominations using the electronic form and who has any questions concerning the nomination process may contact Ms. Kyndall Barry, DFO, as indicated above in this notice. Nominations should be submitted in time to arrive no later than November 2, 2007.

To be considered, all nominations should include: A current curriculum vitae (C.V.) which provides the nominee's background, qualifications, research expertise and relevant publications for service on the Panel; and a brief biographical sketch (“biosketch”). The biosketch should be no longer than two paragraphs and should contain the following information for the nominee:

(a) Current professional affiliations and positions held;

(b) Educational background, especially advanced degrees, including when and from which institutions these were granted;

(c) Area(s) of expertise, and research activities and interests relevant to the Panel; and

(d) Leadership positions in national associations or professional publications or other significant distinctions and service on other advisory committees or professional societies, especially those associated with issues under discussion in this review.

The Web form will also request information about sources of recent (i.e., within the preceding two years) grant and/or other contract support, from government, industry, academia, etc., including the topic area of the funded activity. Please note that even negative responsive information (e.g., no recent grant or contract funding) should be indicated on the biosketch (by “N/A” or “None”). Incomplete biosketches will not be considered. The EPA SAB Staff Office will acknowledge receipt of nominations.

The scientific expertise and credentials of nominees received in reply to this notice will be reviewed for demonstrative experience in the disciplines sought for the CO Review Panel. Qualified nominees will be included in a smaller subset (known as the “Short List”). The Short List will be posted on the SAB Web site at: http://www.epa.gov/sab, and will include, for each candidate, the nominee's name and their biosketch. Public comments on the Short List will be accepted for a minimum of 21 calendar days. During this comment period, the public will be requested to provide relevant information or other documentation on nominees that the SAB Staff Office should consider in evaluating candidates. Panel members will be selected from the Short List.

For the EPA SAB Staff Office, a balanced subcommittee or review panel includes candidates who possess the necessary domains of knowledge, the relevant scientific perspectives (which, among other factors, can be influenced by work history and affiliation), and the collective breadth of experience to adequately address the charge. In establishing the final CO Review Panel, the SAB Staff Office will consider public responses to the Short List, information provided by candidates, and background information independently-gathered by the SAB Staff Office on each candidate (e.g., financial disclosure information, and computer searches to evaluate a nominee's prior involvement with the topic under review). Specific criteria to be used in evaluating Short List candidates for Panel membership include: (a) Scientific and/or technical expertise, knowledge, and experience (primary factors); (b) availability and willingness to serve; (c) absence of financial conflicts of interest; (d) absence of an appearance of a lack of impartiality; and (e) skills working on committees, subcommittees and advisory panels; and, for the Panel as a whole, (f) diversity of, and balance among, scientific expertise, viewpoints, etc.

Prospective candidates will also be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at: http://www.epa.gov/sab/pdf/ec02010.pdf.

Dated: October 5, 2007.
Anthony F. Maciorowski,
Deputy Director, EPA Science Advisory Board Staff Office.

[FR Doc. E7-20146 Filed 10-11-07; 8:45 am]

BILLING CODE 6560-50-P